DEPARTMENT OF COMMERCE

International Trade Administration

Proposed Information Collection; Comment Request; International Buyer Program Application and Exhibitor Data

AGENCY: International Trade Administration, Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before September 7, 2010.

ADDRESSES: Direct all written comments to Diana Hynek, Departmental Paperwork Clearance Officer, Department of Commerce, Room 6625, 14th and Constitution Avenue, NW., Washington, DC 20230 (or via the Internet at dHynek@doc.gov).

FOR FURTHER INFORMATION CONTACT: Requests for additional information or copies of the information collection instrument and instructions should be directed to Susan Crawford—202-482-2050, susan.crawford@trade.gov, 202-482-2599.

SUPPLEMENTARY INFORMATION:

I. Abstract

The International Trade Administration, U.S. and Foreign Commercial Service's International Buyer Program (IBP) encourages international buyers to attend selected domestic trade shows in high export potential industries and to facilitate contact between U.S. exhibitors and foreign visitors. The program has been successful, having substantially increased the number of foreign visitors attending these selected shows as compared to the attendance when not supported by program. The criteria used to select these shows are: export potential, international interest, scope of show, stature of show, exhibitor interest, overseas marketing, logistics, delegation incentives, and cooperation of show organizers.

The application is used by IBP applicant show organizers to demonstrate (1) Their experience, (2) ability to meet the special conditions of the IBP, (3) provide information about the domestic trade show such as the number of U.S. exhibitors and the percentage of net exhibit space occupied by U.S. companies vis-a-vis non-U.S. exhibitors.

The exhibitor data is used to determine which U.S. firms are interested in meeting with international business visitors and the overseas business interest of the exhibitor. The form is completed by U.S. exhibitors participating in an IBP domestic trade show and is used to list the firm and its products in an Export Interest Directory, which is made available for use by Foreign Commercial Officers in recruiting delegations of international buyers to attend the show and is also distributed to IBP delegation members and other foreign buyers visiting the event.

II. Method of Collection

Forms ITA-4014P and ITA-4102P are available on the Internet; and can be filled-in, printed, and mailed.

III. Data

OMB Control Number: 0625-0151.

Form Number(s): ITA-4014P and ITA-4102P.

Type of Review: Regular submission.

Affected Public: Business or other for-profit organizations.

Estimated Number of Respondents: IBP Application: 130; Exhibitor Data: 2,400.

Estimated Time per Response: IBP Application: 180 minutes; Exhibitor Data: 10 minutes.

Estimated Total Annual Burden Hours: 790.

Estimated Total Annual Cost to Public: $0.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: July 1, 2010.
Gwellnar Banks,
Management Analyst, Office of the Chief Information Officer.

[FR Doc. 2010-16589 Filed 7-7-10; 8:45 am]

BILLING CODE 3510-FP-P